DEPARTMENT OF TRANSPORTATION

National Highway Traffic Safety Administration

Reports, Forms and Record Keeping Requirements; Agency Information Collection Activity Under OMB Review

AGENCY: National Highway Traffic Safety Administration (NHTSA), U.S. Department of Transportation.

ACTION: Notice and request for comments.

SUMMARY: In compliance with the Paperwork Reduction Act of 1995, this notice announces that the Information Collection Request (ICR) abstracted below has been forwarded to the Office of Management and Budget (OMB) for review and comment. The ICR describes the nature of the information collections and their expected burden. The Federal Register Notice with a 60-day comment period was published on September 8, 2017. The agency received no comments.

DATES: Comments must be submitted on or before January 5, 2018.

ADDRESSES: Send comments, within 30 days, to the Office of Information and Regulatory Affairs, Office of Management and Budget, 725-17th Street NW., Washington, DC 20503, Attention NHTSA Desk Officer.

FOR FURTHER INFORMATION CONTACT: Wayne McKenzie at the National Highway Traffic Safety Administration, Office of Crash Avoidance Standards, 1200 New Jersey Avenue SE., West Building, Room W43-462, Washington, DC 20590. Mr. McKenzie's telephone number is 202-366-1810.

SUPPLEMENTARY INFORMATION:

National Highway Traffic Safety Administration

Title: 49 CFR part 571.125—Warning Devices Information Collection.

OMB Number: 2127-0506.

Type of Request: Request for public comment on a previously approved collection of information.

Abstract: 49 U.S.C. 30111, 30112 and 30117 of the National Traffic and Motor Vehicle Safety Act of 1966 as amended (“the Safety Act”), authorized the issuance of Federal Motor Vehicle Safety Standards (FMVSS). The Secretary is authorized to issue, amend, and revoke such rules and regulations as she/he deems necessary. Using this authority, the agency issued FMVSS No. 125, “Warning Devices” which applies to devices, without self-contained energy sources, that are designed to be carried in buses and trucks that have a Gross Vehicle Weight Rating (GVWR) greater than 10,000 pounds. These devices are used to warn approaching traffic of the presence of a stopped vehicle, except for devices designed to be permanently affixed to the vehicles.

NHTSA anticipates approximately 3 Warning Device manufacturers will be affected by these reporting requirements. NHTSA does not believe that any of these manufacturers are a small business (i.e., one that employs less than 500 persons) since each manufacturer employs more than 500 persons.

Affected Public: Businesses or other profit organizations.

Estimated Total Annual Burden: NHTSA estimates that the manufacturers will incur a total annual reporting hour of 1 hour.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Authority: Paperwork Reduction Act of 1995, 44 U.S.C. Chapter 35; delegation of authority at 49 CFR 1.95.

Raymond R. Posten,
Associate Administrator for Rulemaking.

[FR Doc. 2017-26236 Filed 12-5-17; 8:45 am]

BILLING CODE 4910-59-P